DEPARTMENT OF COMMERCE

National Oceanic and Atmospheric Administration

RIN 0648-XH100

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 179th Council meeting by web conference to take actions on fishery management issues in the Western Pacific Region. The Council will also hold meetings of the Hawaii Archipelago Fishery Ecosystem Plan (FEP) Advisory Panel (AP) and the Scientific and Statistical Committee (SSC) by web conference.

DATES: The Hawaii Archipelago FEP AP meeting and the 133rd SSC meeting will be held on August 7, 2019, and the 179th Council meeting will be held on August 8, 2019. For specific times and agendas, see SUPPLEMENTARY INFORMATION.

ADDRESSES: The meetings will be held by web conference. Audio and visual portions of the web conference can be accessed at: https://wprfmc.webex.com/join/info.wpcouncilnoaa.gov. Web conference access information will also be posted on the Council's website at www.wpcouncil.org. For assistance with the web conference connection, contact the Council office at (808) 522-8220.

The host site for the Hawaii Archipelago FEP AP meeting and the 133rd SSC meeting web conference will be the Council Conference Room, 1164 Bishop St., Suite 1400, Honolulu, HI. The following venues will be the host sites for the 179th Council Meeting web conference: Council Conference Room, 1164 Bishop St., Suite 1400, Honolulu, HI; NOAA Pacific Islands Regional Office, American Samoa Field Office, Pago Plaza, Suite 202, Pago Pago Village, AS; Guam Hilton Resort and Spa, 202 Hilton Rd., Tumon Bay, GU; Department of Lands and Natural Resources Conference Room, Lower Base Dr., Saipan, MP.

FOR FURTHER INFORMATION CONTACT: Kitty M. Simonds, Executive Director, Western Pacific Fishery Management Council; phone: (808) 522-8220 (voice) or (808) 522-8226 (fax).

SUPPLEMENTARY INFORMATION: The Hawaii Archipelago FEP AP meeting will be held on August 7, 2019, from 9 a.m. to 11 a.m. (Hawaii Standard Time (HST)). The 133rd SSC meeting will be held on August 7, 2019, from noon to 3 p.m. HST. The 179th Council Meeting will be held on August 8, 2019, from 1 p.m. to 4 p.m. HST (noon to 3 p.m. (Samoa Standard Time (SST)); August 9, 2019, from 9 a.m. to noon (Chamorro Standard Time (ChST)). Agenda item noted as “Final Action Item” refers to an action that may result in Council transmittal of a proposed fishery management plan, proposed plan amendment, or proposed regulations to the U.S. Secretary of Commerce, under Sections 304 or 305 of the Magnuson-Stevens Fishery Conservation and Management Act (Magnuson-Stevens Act). Opportunities to present oral public comment will be provided throughout the agendas. The order of the agenda may change, and will be announced in advance at the meetings. The meetings may run past the scheduled times noted above to complete scheduled business.

Background documents for the 179th Council meeting will be available at www.wpcouncil.org. Written public comments for the 179th Council meeting should be received at the Council office by 5 p.m. HST, August 5, 2019, and should be sent to Kitty M. Simonds, Executive Director; Western Pacific Fishery Management Council, 1164 Bishop Street, Suite 1400, Honolulu, HI 96813; fax: (808) 522-8226; or email: info.wpcouncil@noaa.gov.

Agenda for the Hawaii Archipelago FEP AP Meeting

Wednesday, August 7, 2019, 9 a.m. to 11 a.m. (HST)

1. Welcome and Introductions

2. Approval of Draft Agenda

3. Managing Loggerhead and Leatherback Sea Turtle Interactions in the Hawaii-based Shallow-set Longline Fishery (Action Item)

4. Public Comments

5. Discussion and Recommendations

6. Other Business

Agenda for the 133rd SSC Meeting

Wednesday, August 7, 2019, Noon to 3 p.m. (HST)

1. Introductions

2. Approval of Draft Agenda and Assignment of Rapporteurs

3. Managing Loggerhead and Leatherback Sea Turtle Interactions in the Hawaii-based Shallow-set Longline Fishery (Action Item)

4. Report of the SSC Working Group

5. Public Comment

6. SSC Discussion and Recommendations

7. Other Business

Agenda for 179th Council Meeting

Thursday, August 8, 2019, 1 p.m. to 4 p.m. (HST) (Thursday, August 8, 2019, Noon to 3 p.m. (SST); Friday, August 9, 2019, 9 a.m. to Noon (ChST))

1. Welcome and Introductions

2. Approval of the 179th Agenda

3. Managing Loggerhead and Leatherback Sea Turtle Interactions in the Hawaii-based Shallow-set Longline Fishery (Final Action Item)

4. Advisory Group Report and Recommendations

A. Hawaii Archipelago FEP AP

B. SSC

5. Public Comments

6. Council Discussion and Recommendations

7. Other Business

Non-emergency issues not contained in this agenda may come before the Council for discussion and formal Council action during the 179th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Please direct requests for sign language interpretation or other auxiliary aids to Kitty M. Simonds (see FOR FURTHER INFORMATION CONTACT section above) at least 5 days prior to the meeting date.

Authority: 16 U.S.C. 1801 et seq.

Dated: July 15, 2019.
Tracey L. Thompson,
Acting Deputy Director, Office of Sustainable Fisheries, National Marine Fisheries Service.

[FR Doc. 2019-15319 Filed 7-18-19; 8:45 am]

BILLING CODE 3510-22-P